POSTAL SERVICE

39 CFR Part 111

Domestic Mail Manual Changes to Announce the Periodicals Accuracy, Grading, and Evaluation (PAGE) Program

AGENCY: Postal Service.

ACTION: Final rule.

SUMMARY: This final rule provides a change to certain sections applicable to Periodicals mail in the Domestic Mail Manual (DMM). It adds a new optional method a publisher may use to determine per-copy weights and to substantiate the advertising percentage in each edition of each issue of a periodical. The new option is called the Periodicals Accuracy, Grading, and Evaluation (PAGE) Program.

EFFECTIVE DATE: March 11, 2002.

FOR FURTHER INFORMATION CONTACT: Charles Tricamo, New York Rates and Classification Service Center, at (212) 613-8754.

SUPPLEMENTARY INFORMATION: In this rulemaking, the Postal Service announces the adoption of an optional method that will eliminate a publisher's need to submit a manually marked copy showing the percentage of advertising for each edition of each issue at the time of mailing. It also eliminates the requirement for Postal Service acceptance employees to determine per-copy weights by weighing 10 copies of each edition at the time of mailing.

Because of technology innovations made in the publishing industry, the Postal Service developed an evaluation program to test the accuracy of Publishing and Print Planning (PPP) software to calculate advertising percentages and copy weights. This new optional program, designed in cooperation with the Periodicals industry, allows publishers to submit postage statements completed entirely with electronically generated per-copy weights in a totally automated environment. The Postal Service will sample a limited amount of actual copies to ensure the weights are accurate. If the sampling determines that the publisher's weights are not within tolerance, a postage adjustment will be generated.

On October 10, 2001, the Postal Service published for public comment in the Federal Register a proposed rule (66 FR 51617-51619) regarding the new optional Periodicals Accuracy, Grading, and Evaluation (PAGE) Program. The Postal Service received four comments during the 30-day comment period. One mailer commented that the company applauds the initiative of the PAGE Program claiming it is a more efficient way to determine weights and it reduces workhours for both the mailers and the Postal Service. A second mailer submitted a statement of support to establish the new optional method for determining per-copy weights and advertising percentages electronically and considers PAGE a major step forward in reduction of longtime costs associated with the processing of Periodicals mail. The third and fourth mailers “fully support” and “fully agree” with implementation of the PAGE Program.

After full consideration of the comments received, and for the reasons cited above, the Postal Service believes it appropriate to adopt a rulemaking for the Periodicals Accuracy, Grading, and Evaluation (PAGE) Program.

Program Information and Participation

To participate in this program, publishers must successfully complete three stages of authorization.

Stage One—Product Certification for Software Developers

Developers may have their PPP software PAGE-certified by applying to the National Customer Support Center (NCSC) and paying the appropriate fee. Developers are charged the software analysis fee of $1,000.00 for testing. One charge will cover up to three certification reviews of a specific software package by a software developer. If a developer requires an on-site analysis, the fee is $2,500.00. An additional $1,500.00 will be charged for each subsequent certification review of a specific software package required at a developer's site. A developer's software will be certified for one PAGE cycle only. A PAGE cycle is one year beginning March 11, and ending March 10 of the following year. Certification for the next PAGE cycle will require payment of an analysis fee of either $1,000.00 for NCSC analysis or $2,500.00 for an on-site analysis. Publishers must use PPP software certified by the Postal Service to generate per-copy weights and advertising percentages to progress to stage 2.

The first testing cycle will begin March 11, 2002.

Stage Two—User Certification for PPP Software.

A publisher may participate in the PAGE Program only when its employees or agents who use the PPP software have been certified by the Postal Service to use PAGE-certified software. Publishers must apply to the NCSC to be certified for all employees who will input data into their PPP software program. Publishers will be charged $25.00 for a User Testing Package and Analysis Kit for each employee. There will be a $25.00 fee for each attempt at user certification. Each user must reapply for certification every 2 years. Any new employees who will use PPP software must be certified before using the software if a publisher has been authorized to submit Periodicals mailings using the PAGE Program. As an option, a publisher may purchase a reference kit containing mailing standards, Postal Service Customer Service Support Rulings (and updates), Publication 32, Glossary of Postal Terms, and Postal Explorer for $20.00.

Users testing cycle begins April 11, 2002.

Stage Three—PAGE Program Authorization

Publishers must complete an application for authorization to submit PAGE-certified calculated copy weights and advertising percentages to participate in the program. The application may be obtained from and must be returned to the New York Rates and Classification Service Center (RCSC) U.S. Postal Service, 1250 Broadway, 14th Floor, New York, NY 10095-9599. A publisher must report all authorized Periodicals publications and print sites that will use PAGE-certified software. There is no charge for this authorization, and the publisher is required to reapply annually.

List of Subjects in 39 CFR Part 111

Postal Service.

Accordingly, the Postal Service adopts the following amendments to the Domestic Mail Manual, which is incorporated by reference in the Code of Federal Regulations (see 39 CFR part 111).

PART 111—[AMENDED]

1. The authority citation for 39 CFR part 111 continues to read as follows:

Authority: 5 U.S.C. 552(a); 39 U.S.C. 101, 401, 403, 404, 407, 3001-3011, 3201-3219, 3403-3406, 3621, 5001.

2. Revise the following sections of the Domestic Mail Manual as follows:

Domestic Mail Manual (DMM)

* * * * *

P Postage and Payment Methods

P000 Basic Information

P010 General Standards

* * * * *

P013 Rate Application and Computation

* * * * *

7.0 COMPUTING POSTAGE—PERIODICALS

7.1 Percentage of Advertising

[Add the following sentence at the end of 7.1:]

* * * Advertising percentages may also be calculated through the Periodicals Accuracy, Grading, and Evaluation (PAGE) Program using the procedures in P200.4.

7.2 Weight Per Copy

[Add the following sentence at the end of 7.2:]

* * * Per-copy weights may also be calculated through the Periodicals Accuracy, Grading, and Evaluation (PAGE) Program using the procedures in P200.4.

* * * * *

P200 Periodicals

* * * * *

1.0 BASIC INFORMATION

* * * * *

1.2 Marked Copy

[Add the following sentence at the end of 1.2:]

* * * Mailers do not have to submit marked copies if certified by the Postal Service to use the Periodicals Accuracy, Grading, and Evaluation (PAGE) Program in P200.4.

* * * * *

[Add new 4.0 as follows:]

4.0 PERIODICALS ACCURACY, GRADING, AND EVALUATION (PAGE) PROGRAM

4.1 Basic Information

The Periodicals Accuracy, Grading, and Evaluation (PAGE) Program is a process to evaluate Publishing and Print Planning (PPP) software and to determine its accuracy in computing per-copy weights and calculating advertising percentages for Periodicals mail using DMM standards. Certification of PAGE software is available only to those companies that develop or write PPP software. PAGE certification does not guarantee acceptance of the publisher's per-copy weights and advertising percentages prepared with PAGE-certified software.

4.2 Process

The PAGE Program evaluates and tests PPP software. In addition, the PAGE Program tests and qualifies publishing personnel to submit data to the Postal Service using PAGE-certified PPP software. The Postal Service National Customer Support Center (NCSC) in Memphis, Tennessee, is the Postal Service location for certifying developer's software and a publisher's employees to use certified PPP software to submit Periodicals mailings. The PAGE Program involves the following three elements:

Stage One—Product Certification for Software Developers

NCSC evaluates the accuracy of the calculations of PPP software by processing a test publication file either at the NCSC or at the developer's location (through an on-site visit).

Stage Two—User Certification for PPP Software

NCSC provides test packages to the users and evaluates the results.

Stage Three—PAGE Program Authorization

Only publishers who have PAGE-certified users and use PAGE-certified software to submit per-copy weight and calculated advertising percentages may apply for authorization to the Manager, New York Rates and Classification Service Center.

4.3 Participation

For information about charges and the PAGE Program, publishers may request a technical guide (including order forms) from the NCSC by calling 1-800-238-3150. Additional information is also available from the New York Rates and Classification Service Center at (212) 613-8676.

* * * * *

Stanley F. Mires,
Chief Counsel, Legislative.

[FR Doc. 02-7388 Filed 3-27-02; 8:45 am]

BILLING CODE 7710-12-P